Title 3—

The President

Proclamation 7848 of November 23, 2004

National Family Week, 2004

By the President of the United States of America

A Proclamation

Strong families are the foundation of our society. They provide stability for our citizens and instill responsibility and values in our children. During National Family Week, we underscore our commitment to supporting families and recognize the significance of family to our country.

Families have an important role in teaching our Nation's young people to understand the consequences of their actions and to recognize that the decisions they make today could affect the rest of their lives. In times of change, the family values of compassion, reverence, and integrity serve as steady guides. My Administration is standing with American families because children should have the opportunity to grow up in a stable home.

To help families, I was proud last month to sign the Working Families Tax Relief Act of 2004. Because of this legislation, more than 90 million Americans will have a lower tax bill next year. With more of their own money, parents can save for retirement or a child's education, or invest in a home or small business. For many American families, the most valuable commodity is extra time. I have called on the Congress to give individuals the voluntary options of comp-time and flex-time as an alternative to overtime pay so that they may better juggle the demands of work and family.

As we celebrate family this week, our Nation expresses its gratitude for the families whose loved ones serve in our Armed Forces. These brave military men and women are working to defend our country and spread freedom so that all Americans are safe and secure. We pray for them and for their families. And we will always remember the courage and selfless commitment of those who have paid the ultimate price for our security and freedom.

NOW, THEREFORE, I, GEORGE W. BUSH, President of the United States of America, by virtue of the authority vested in me by the Constitution and laws of the United States, do hereby proclaim November 21 through November 27, 2004, as National Family Week. I invite the States, communities, and all the people of the United States to join together in observing this week with appropriate ceremonies and activities to honor our Nation's families.

IN WITNESS WHEREOF, I have hereunto set my hand this twenty-third day of November, in the year of our Lord two thousand four, and of the Independence of the United States of America the two hundred and twenty-ninth.

B

[FR Doc. 04-26442

Filed 11-26-04; 8:45 am]

Billing code 3195-01-P